DEPARTMENT OF COMMERCE

National Telecommunications and Information Administration

Submission for OMB Review; Comment Request

The Department of Commerce has submitted to the Office of Management and Budget (OMB) for clearance the following proposal for collection of information under the provisions of the Paperwork Reduction Act of 1995 (44 U.S.C. Chapter 35).

Agency: National Telecommunications and Information Administration (NTIA).

Title: Technology Opportunities Program (TOP) Grant Recipient Survey.

Form Number(s): None.

OMB Approval Number: 0660-0013.

Type of Request: Regular submission.

Burden Hours: 210.

Number of Respondents: 210.

Average Hours Per Response: 1.

Needs and Uses: The purpose of the Technology Opportunities Program (TOP) is to promote the widespread availability and use of digital network technologies in the public and non-profit sectors to serve communities nationwide. As part of the Department of Commerce's National Telecommunications and Information Administration, TOP projects are nationally-significant demonstrations of how digital network technologies can be used to extend and improve the delivery of valuable services and opportunities to all Americans. It does this by providing matching funds to pubic and non-profit sector organizations to use these technologies to provide community-wide information, health, life-long learning, public safety and other public services. TOP will evaluate and actively share the lessons learned from these projects to ensure the benefits are broadly distributed. TOP will use this survey to ensure that grant recipients are effectively promoting the efficient and widespread use of advance telecommunications services to serve American communities and to comply with the Government Performance and Results Act.

NTIA is interested in the effects that the funded projects are having at the local level and, over the long term, at the national level. It is NTIA's intention to understand the nature and degree of those effects on the organizations that are involved with the projects, the individuals who are served by the projects, and the community as a whole. NTIA is especially interested in understanding the difference that the Federal grants have had in the creation, scale, scope and sustainability of the projects.

Affected Public: Not-for-profit institutions, and state, local or tribal government.

Frequency: Annually.

Respondent's Obligation: Voluntary.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at Mclayton@doc.gov).

Written comments and recommendations for the proposed information collection should be sent within 30 days of publication of this notice to David Rostker, OMB Desk Officer, Room 10202, New Executive Office Building, Washington, DC 20503.

Dated: February 20, 2002.
Gwellnar Banks,
Management Analyst, Office of the Chief Information Officer.

[FR Doc. 02-4487 Filed 2-25-02; 8:45 am]

BILLING CODE 3510-60-P